DEPARTMENT OF THE INTERIOR

National Park Service

[NPS-IMR-SAGU-20976; PPIMIMLAE6 PS.SIMLA0044.00.1]

Minor Boundary Revision at Saguaro National Park

AGENCY: National Park Service, Interior.

ACTION: Notification of boundary revision.

SUMMARY: The boundary of Saguaro National Park is modified to include 273.08 acres of land located in Pima County, Arizona, immediately adjacent to the boundary of the park. Subsequent to the proposed boundary revision, the United States will acquire the land by donation from The Trust for Public Land, a nonprofit conservation organization.

DATES: The effective date of this boundary revision is June 13, 2016.

ADDRESSES: The map depicting this boundary revision is available for inspection at the following locations: National Park Service, Land Resources Program Center, Intermountain Region, 12795 West Alameda Parkway, Denver, Colorado 80228 and National Park Service, Department of the Interior, 1849 C Street NW., Washington, DC 20240.

FOR FURTHER INFORMATION CONTACT: Chief Realty Officer Steve Muyskens, National Park Service, Land Resources Program Center, Intermountain Region, 12795 West Alameda Parkway, Denver, Colorado 80228, telephone (303) 969-2610.

SUPPLEMENTARY INFORMATION: Notice is hereby given that, pursuant to 54 U.S.C. 100506(c)(1)(B), the boundary of Saguaro National Park is modified to include 273.08 acres of adjacent land identified as Tract 01-177. The boundary revision is depicted on Map No. 151/117,410A, dated April 7, 2015.

54 U.S.C. 100506(c)(1)(B) provides that, after notifying the House Committee on Natural Resources and the Senate Committee on Energy and Natural Resources, the Secretary of the Interior is authorized to make this boundary revision upon publication of notice in the Federal Register. The Committees have been notified of this boundary revision. This boundary revision and subsequent acquisition will ensure preservation and protection of a significant riparian corridor and habitat at the park.

Dated: May 2, 2016.
Colin Campbell,
Acting Regional Director, Intermountain Region.

[FR Doc. 2016-13842 Filed 6-10-16; 8:45 am]

BILLING CODE 4312-CB-P